DEPARTMENT OF COMMERCE

National Oceanic and Atmospheric Administration

[I.D. 010301A]

Endangered Species; Permits

AGENCY: National Marine Fisheries Service (NMFS), National Oceanic and Atmospheric Administration (NOAA), Commerce.

ACTION: Receipt of application for a scientific research permit (1274); issuance of permits (1261, 1226); and modifications to existing permits (1178, 984).

SUMMARY: Notice is hereby given of the following actions regarding permits for takes of endangered and threatened species for the purposes of scientific research and/or enhancement: NMFS has received a permit application from Dr. Molly Lutcavage, of the New England Aquarium (NEA) (1274); NMFS has issued permit 1261 to Mr. Vincent A. Mudrak, of U.S. Fish & Wildlife Service (USFWS) (1261); NMFS has issued permit 1226 to Mr. Mike Clancy and Ms. Katherine Hattala, of New York State Dept of Environmental Conservation (NYSDEC) (1226); NMFS has issued modification #2 to permit 1178 to Dr. Michael Sissenwine, of Northeast Fisheries Science Center, NMFS (NMFS-NEFSC) (1178); and NMFS has issued modification #3 to permit 984 to Dr. Steve Ross, of Center for Marine Science Research, University of North Carolina at Wilmington (UNC-Wilmington)(984).

DATES: Comments or requests for a public hearing on any of the new applications or modification requests must be received at the appropriate address or fax number no later than 5 p.m. eastern standard time on February 9, 2001.

ADDRESSES: Written comments on any of the new applications or modification requests should be sent to the appropriate office as indicated below. Comments may also be sent via fax to the number indicated for the application or modification request. Comments will not be accepted if submitted via e-mail or the Internet. The applications and related documents are available for review in the indicated office, by appointment:

For permits 1226, 1261, 1178, 984, 1274: NMFS, Office of Protected Resources, Endangered Species Division, F/PR3, 1315 East-West Highway, Silver Spring, MD 20910 (ph: 301-713-1401, fax: 301-713-0376).

FOR FURTHER INFORMATION CONTACT: Terri Jordan, Silver Spring, MD (phone and fax: see above) e-mail: Terri.jordan@noaa.gov.

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

Species Covered in This Notice

The following species and evolutionarily significant units (ESU's) are covered in this notice:

Sea Turtles

Green turtle (Chelonia mydas), Hawksbill turtle (Eretmochelys imbricata), Kemp's ridley turtle (Lepidochelys kempii), Leatherback turtle (Dermochelys coriacea), Loggerhead turtle (Caretta caretta).

Fish

Shortnose sturgeon (Acipenser brevirostrum)

Application 1274:

NMFS has received an application from Dr. Molly Lutcavage of the New England Aquarium. Dr. Lutcavage requests authorization to satellite tag up to eight (8) endangered leatherback turtles captured incidental to commercial fisheries. Dr. Lutcavage proposes to attach pop-up satellite transmitters to leatherback turtles using surgical bone screws instead of harnesses, and to look at whether tagging turtles with harnesses increases the likelihood of entanglement in commercial fisheries. This proposed permit continues research begun under permit #1053 issued by NMFS on July 14, 1997.

Permit 1261

Notice was published on August 17, 2000 (65 FR 50185) that Mr. Vincent A. Mudrak, of U.S. Fish & Wildlife Service applied for a scientific research permit (1261).

The applicant requests a five-year permit to maintain captively bred shortnose sturgeon for scientific research at the Warm Springs Hatchery operated by the US Fish and Wildlife Service. Research Activities include feeding studies, propagation studies and studies identified in the recovery plan for shortnose sturgeon. Permit 1261 was issued on December 29, 2000, authorizing take of listed species. Permit 1261 expires December 31, 2005.

Permit 1226

Notice was published on November 26, 1999 (64 FR 66458) that Mr. Mike Clancy and Ms. Katherine Hattalla of NYSDEC applied for a scientific research permit (1226).

As a requirement in the Atlantic States Marine Fisheries Commission's Atlantic Sturgeon Management Plan, New York State must initiate monitoring of juvenile Atlantic sturgeon in the Hudson River. While conducting this research it is a very likely and unavoidable event that shortnose sturgeon will be captured in the sampling gear deployed to capture Atlantic sturgeon. The NYSDEC is applying for a permit to handle and tag any shortnose sturgeon incidentally caught in their sampling gear. The NYSDEC will work in collaboration with the US Fish and Wildlife Service (permit #1051) to share biological and movement data regarding shortnose sturgeon residing in the Hudson River. Permit 1226 was issued on December 22, 2000, authorizing take of listed species. Permit 1226 expires October 31, 2005.

Permit 1178

The applicant currently possesses a 5-year scientific research permit to take listed sea turtles incidentally taken in foreign and domestic commercial fisheries operating in state waters and the Exclusive Economic Zone in the Northwest Atlantic Ocean. The work will be conducted by scientific observers aboard commercial fishing vessels. The following species and annual take numbers have been requested: 300 loggerhead (Caretta caretta), 85 leatherback (Dermochelys coriacea), 10 Kemp's ridley (Lepidochelys kempi), 10 hawksbill (Eretmochelys imbricata), and 10 green (Chelonia mydas) turtles. The applicant has authorization to measure, photograph, flipper tag, scan for PIT tags, resuscitate (if necessary) and release turtles taken incidentally in foreign and domestic commercial fisheries. Further, the applicant has authorization to bring to shore, when feasible, dead sea turtles for necropsy. Necropsy will only be performed by personnel currently permitted to conduct such research. This research supports the NMFS' mission of assessing the impacts of commercial fisheries on marine resources of interest to the United States.

Modification #2 authorizes the collection of skin biopsies from turtles onboard vessels and animals too large to bring aboard commercial vessels. Modification #2 to Permit 1178 was issued on December 29, 2000. Permit 1178 expires December 31, 2003.

Permit 984

Notice was published on July 19, 2000 (65 FR 44760) that Dr. Steve Ross (UNC-Wilmington) had applied for a modification to 984. Permit 984 currently authorizes the take of shortnose sturgeon from rivers throughout the state of North Carolina. This permit authorizes capture in gillnets, handling, weighing, photographing, dorsal fin clipping for genetic material collection, external and internal tagging and release. Both Dr. Mary Moser of the National Marine Fisheries Service - Northwest Fisheries Science Center in Seattle, WA and Dr. Steven Ross are co-investigators.

Modification #3 removes Dr. Mary Moser from the permit and extends the expiration date of the permit to December 31, 2001. NMFS is also amending the permit to bring the special conditions current with other permits being issued for research on shortnose sturgeon. The take description has been modified into a table format. Items #1 & 2 in the take table were modified to increase the lethal take of eggs and larvae. The original permit authorized 25 eggs to be lethally taken and 25 returned to the wild, and 10 larvae to be lethally taken and 10 returned to the wild. The return of eggs and larvae to the wild after collection on a buffer pad is not feasible, so NMFS clarified this in the permit. Item #5 in the take table was modified to clearly denote that the 8,000 juvenile shortnose sturgeon transferred to Dr. Moser were terminated in 1999 per special condition #1b of modification #2 which was issued November 17, 1998. NMFS also clarified reporting contact mail and email addresses.

Modification #3 to Permit 984 was issued on December 29, 2000, authorizing take of listed species. Permit 984 expires December 31, 2001.

Dated: January 3, 2000.
Margaret Lorenz,
Acting Chief, Endangered Species Division, Office of Protected Resources, National Marine Fisheries Service.

[FR Doc. 01-773 Filed 1-9-01; 8:45 am]

BILLING CODE 3510-22-S